DEPARTMENT OF ENERGY

[OE Docket No. EA-318]

Application To Export Electric Energy; CSW Power Marketing

AGENCY: Office of Electricity Delivery and Energy Reliability, DOE.

ACTION: Notice of application.

SUMMARY: CSW Power Marketing (CPMI) has applied for authority to transmit electric energy from the United States to Mexico pursuant to section 202(e) of the Federal Power Act.

DATES: Comments, protests, or requests to intervene must be submitted on or before November 15, 2006.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On September 18, 2006, the Department of Energy (DOE) received an application from CPMI for authority to transmit electric energy from the United States to Mexico as a power marketer. CPMI has requested an electricity export authorization with a 5-year term. CPMI does not own or control any generation, transmission, or distribution assets, nor does it have a franchised service area. The electric energy which CPMI proposes to export to Mexico would be surplus energy purchased from electric utilities, Federal power marketing agencies, and other entities within the U.S.

CPMI will arrange for the delivery of exports to Mexico over the international transmission facilities owned by San Diego Gas & Electric Company, El Paso Electric Company, Central Power & Light Company, Sharyland Utilities, and Comision Federal de Electricidad, the national electric utility of Mexico.

The construction, operation, maintenance, and connection of each of the international transmission facilities to be utilized by CPMI has previously been authorized by a Presidential permit issued pursuant to Executive Order 10485, as amended.

DOE notes that CPMI shall have no authority to export electricity to Mexico until the conclusion of this proceeding and the issuance of an order granting authority to export.

Procedural Matters: Any person desiring to become a party to these proceedings or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the dates listed above.

Comments on the CPMI application to export electric energy to Mexico should be clearly marked with Docket No. EA-318. Additional copies are to be filed directly with John C. Crespo, American Electric Power, 155 W. Nationwide Blvd., Suite 500, Columbus, Ohio 43215 and John R. Lilyestrom, Geo. F. Hobday, Jr., Hogan & Hartson, LLP, 555 13th Street, NW., Washington, DC 20004.

A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permitting/electricity_imports_exports.htm, or by e-mailing Odessa Hopkins at Odessa.hopkins@hq.doe.gov.

Issued in Washington, DC, on October 10, 2006.
Anthony J. Como,
Director, Permitting and Siting, Office of Electricity Delivery and Energy Reliability.

[FR Doc. E6-17093 Filed 10-13-06; 8:45 am]

BILLING CODE 6450-01-P